DEPARTMENT OF STATE

[Public Notice: 12865]

Foreign Terrorist Organization Designation of Antifa Ost, Informal Anarchist Federation/International Revolutionary Front, Armed Proletarian Justice, and Revolutionary Class Self-Defense

Based upon a review of the Administrative Record assembled in this matter, and in consultation with the Attorney General and the Secretary of the Treasury, I have concluded that there is a sufficient factual basis to find that the relevant circumstances described in section 219 of the Immigration and Nationality Act, as amended (hereinafter “INA”) (8 U.S.C. § 1189), exist with respect to: Antifa Ost (also known as Antifa-Ost; Antifa-East; Hammerbande; Hammer Gang), Informal Anarchist Federation/International Revolutionary Front (also known as Federazione Anarchica Informale/Fronte Rivoluzionario Internazionale; Informal Anarchist Federation; FAI/FRI; FAI/IRF; July 20 Brigade; July Brigade/International Revolutionary Front; Cooperativa Artigiana Fuoco e Affini; FAI/Craft Cooperative Fire and Similar/International Revolutionary Front; Sorelle in Armi, Nucleo Mauricio Morales; FAI/Sisters in Arms Mauricio Morales Nucleus/International Revolutionary Front; FAI/Revolutionary Cell Lambros Fountas; FAI/Armed Cells for International Solidarity; Cells against Capital the Prison its Jailers and its Cells (CCCCC); FAI/Cells Against Capita Prison and its Jailers and its Cells; FAI/Metropolitan Cells; FAI/Revolutionary Nucleus Horst Fantazzini; FAI/Animal Revolt; FAI/Terrible Anonymous Revolt; FAI/International Solidarity; FAI/Narodnaja Vojla; Santiago Maldonado Cell; Santiago Maldonado Cell FAI-FRI; Haris Hatzimihelakis/International Nero (HHIN); Brigata Augusto Masetti Federazione Anarchica Informale—Fronte Rivoluzionario Internazionale; Augusto Masetti Informal Anarchist Brigade—International Revolutionary Front), Armed Proletarian Justice (also

Therefore, I hereby designate the aforementioned organizations and their respective aliases as Foreign Terrorist Organizations pursuant to section 219 of the INA.

This determination shall be published in the Federal Register. These designations go into effect upon publication.

Dated: November 10, 2025.
Marco Rubio,
Secretary of State.

[FR Doc. 2025-20663 Filed 11-19-25; 3:30 pm]

BILLING CODE 4710-AD-P